DEPARTMENT OF COMMERCE

National Oceanic and Atmospheric Administration

[I.D. 041202D]

Pacific Fishery Management Council; Public Meeting

AGENCY: National Marine Fisheries Service (NMFS), National Oceanic and Atmospheric Administration (NOAA), Commerce.

ACTION: Notice of public meeting.

SUMMARY: The Pacific Fishery Management Council's (Council) Ad Hoc Groundfish Fishery Management Plan Environmental Impact Statement (EIS) Oversight Committee will hold a working meeting, which is open to the public, on the draft Groundfish Programmatic Supplemental Environmental Impact Statement (PSEIS).

DATES: The EIS Oversight Committee working meeting will begin Wednesday, May 8, 2002 at 1 p.m. and may go into the evening until business for the day is completed. The meeting will reconvene from 8 a.m. to 5 p.m. on Thursday, May 9, 2002.

ADDRESSES: The meetings will be held in the West Conference Room at the Pacific Fishery Management Council office, 7700 NE Ambassador Place, Suite 200, Portland, OR 97220-1384.

FOR FURTHER INFORMATION CONTACT: Mr. John DeVore, Groundfish Fishery Management Coordinator; telephone: (503) 326-6352.

SUPPLEMENTARY INFORMATION: The purpose of the EIS Oversight Committee meeting is to develop the range of alternatives that will be evaluated in the PSEIS. The committee will review draft sections of the PSEIS, provide comments to the drafters, and prepare recommendations to the Council regarding the programmatic alternatives for consideration at the upcoming June Council meeting.

Although nonemergency issues not contained in the EIS Oversight Committee agenda may come before the EIS Oversight Committee for discussion, those issues may not be the subject of formal committee action during this meeting. EIS Oversight Committee action will be restricted to those issues specifically listed in this notice, and any issues arising after publication of this notice that require emergency action under section 305(c) of the Magnuson-Stevens Fishery Conservation and Management Act, provided the public has been notified of the Committee's intent to take final action to address the emergency.

Special Accommodations

The meeting is physically accessible to people with disabilities. Requests for sign language interpretation or other auxiliary aids should be directed to Ms. Carolyn Porter at (503) 326-6352 at least 5 days prior to the meeting date.

Dated: April 13, 2002.
Richard W. Surdi,
Acting Director, Office of Sustainable Fisheries, National Marine Fisheries Service.

[FR Doc. 02-9521 Filed 4-17-02; 8:45 am]

BILLING CODE 3510-22-S